ENVIRONMENTAL PROTECTION AGENCY

40 CFR Part 13

[FRL-9910-13-OCFO]

Administrative Wage Garnishment

AGENCY: Environmental Protection Agency (EPA).

ACTION: Proposed rule.

SUMMARY: Environmental Protection Agency (EPA) is proposing to amend EPA's claims collection standards to include administrative wage garnishment. This rule amends the EPA's debt collection regulations to implement the administrative wage garnishment (AWG) provisions of the Debt Collection Act of 1982, as amended by the Debt Collection Improvement Act of 1996 (DCIA). The proposed rule will allow the EPA to garnish non-Federal wages to collect delinquent non-tax debts owed the United States without first obtaining a court order. In the Rules and Regulations section of this Federal Register we are approving an amendment to EPA's regulations on claims collection standards by using administrative wage garnishment as a direct final rule without a prior proposed rule. If we receive no adverse comment, the direct final rule will go into effect and we will not take further action on this proposed rule.

DATES: Written comments must be received by August 1, 2014.

ADDRESSES: Submit your comments by one of the following methods:

1. Email: jones.anita@epa.gov.

2. Fax: (202) 565-2585.

3. Mail: OCFO-2014-0001; FRL-9910-13-OCFO, FPPS c/o Anita Jones, OCFO/OFM/FPPS, Mailcode 2733R, Environmental Protection Agency, 1300 Pennsylvania Ave. NW., Washington, DC 20460.

Comments may be submitted electronically by following the detailed instructions in the ADDRESSES section of the direct final rule located in the rules section of this Federal Register.

FOR FURTHER INFORMATION CONTACT: FPPS c/o Anita Jones, OCFO/OFM/FPPS, Mailcode 2733R, Environmental Protection Agency, 1300 Pennsylvania Ave. NW., Washington, DC 20460; telephone number: (202) 564-4969; fax number: (202) 565-2585; email address: jones.anita@epa.gov.

SUPPLEMENTARY INFORMATION:

Background

This proposed rule implements the administrative wage garnishment provisions in section 31001(o) of the Debt Collection Improvement Act of the 1996 (DCIA), Public Law 104-134, 110 Stat. 1321-358, codified as 31 U.S.C. 3720D. Under the administrative wage garnishment provisions of the DCIA, Federal agencies may garnish administratively up to 15 percent of the disposal pay of a debtor to satisfy a delinquent non-tax debt owed to the United States. Prior to the enactment of the DCIA, Federal agencies were required to obtain a court judgment before garnishing non-Federal wages. Section 31001(o) of the DCIA preempts State laws that prohibit wage garnishment or otherwise govern wage garnishment procedures.

As authorized by the DCIA, a Federal agency collecting a delinquent non-tax debt may garnish a delinquent debtor's wages in accordance with regulations promulgated by the Secretary of the Treasury. The Bureau of Fiscal Services, a bureau of the Department of the Treasury (Treasury), is responsible for promulgating the regulations implementing this and other debt collection tools established by the DCIA. The Bureau of Fiscal Services published its final rule at 63 FR 25136, May 6 1998, (Treasury Final Rule) and published technical amendments at 64 FR 22906, 22908, April 28, 1999 and 66 FR 51867, 51868, October 11, 2001. The Treasury Final Rule, as amended, is published in § 285.11 of title 31 of the Code of Federal Regulations. Pursuant to 31 CFR 285.11 (f), Federal agencies must either prescribe regulations for the conduct of AWG hearings consistent with the procedural requirements set forth in the Treasury Final Rule or adopt § 285.11 without change by reference.

Basic Provisions

In accordance with the requirements of the DCIA and the implementing regulations at 31 CFR 285.11, the EPA is adopting the provisions of 31 CFR 285.11concerning administrative wage garnishment, including the hearing procedures described in 31 CFR 285.11(f).

Use of the Direct Final Rule

This document proposes to take action on amending EPA's regulations on claims collection standards by using administrative wage garnishment. We have published a direct final rule amending EPA's regulations on claims collection standards by using administrative wage garnishment in the “Rules and Regulations” section of today's Federal Register because we view this as a noncontroversial action and anticipate no adverse comment. We have explained our reasons for this action in the preamble to the direct final rule.

If we receive no adverse comment, we will not take further action on this proposed rule. If we receive adverse comment, we will withdraw the direct final rule and it will not take effect. We would address all public comments in any subsequent final rule based on this proposed rule.

We do not intend to institute a second comment period on this action. Any parties interested in commenting must do so at this time. For further information, please see the information provided in the ADDRESSES section of this document.

Dated: June 23, 2014.
Jeanne Conklin,
Acting Director, Office of Financial Management.

[FR Doc. 2014-15579 Filed 7-1-14; 8:45 am]

BILLING CODE 6560-50-P